FEDERAL RESERVE SYSTEM

12 CFR Part 206

[Regulation F; Docket No. R-1161]

Interbank Liabilities

AGENCY: Board of Governors of the Federal Reserve System.

ACTION: Final rule; technical amendments.

SUMMARY: The Board of Governors of the Federal Reserve System (Board) has adopted final, technical amendments to its Regulation F that remove an obsolete section of the rule and correct several typographical errors.

DATES: The amendments are effective September 10, 2003.

FOR FURTHER INFORMATION CONTACT: Adrianne G. Threatt, Counsel (202/452-3554), Legal Division, or John Connolly, Supervisory Financial Analyst (202/452-3621), Division of Banking Supervision and Regulation; for users of Telecommunication Devices for the Deaf (TDD) only, contact 202/263-4869.

SUPPLEMENTARY INFORMATION: As required by the Regulatory Flexibility Act, the Board periodically reviews each of its regulations that has a significant economic impact on a substantial number of small entities to determine whether the regulation should continue without change or be amended or rescinded to minimize the economic impact on small entities (see 5 U.S.C. 610). In addition, it is the Board's policy to review each of its regulations at least once every five years (see the Board Policy Statements on the Board's Rules of Procedure, Federal Reserve Regulatory Service ¶ 8-040).

The Board has completed its review of Regulation F and determined that the substantive requirements of that rule should continue unchanged. However, the Board has adopted several technical amendments designed to update the regulation. Most notably, the Board has removed § 206.7, which contained transition provisions that have not applied since June 1995.

The final rule also corrects several typographical errors in the text of rule. The term “Basle Capital Accord” has been changed to “Basel Capital Accord” to be consistent with international practice. In several cases, the word “of” has been changed to the word “or.” The Board also has revised several references to federal statutes and redesignated three paragraphs of Regulation F so that citations and paragraph designations within the regulation will be internally consistent.

Administrative Procedure Act

The Board did not follow the provisions of 5 U.S.C. 553(b) relating to notice and public participation in connection with the adoption of these amendments. The Board for good cause determined that public participation is unnecessary because there is no substantive change on which the public could provide meaningful comment. For that same reason, the Board also has not provided 30 days prior notice of the effective date of the rule under section 553(d).

Paperwork Reduction Act

In accordance with the Paperwork Reduction Act of 1995 (44 U.S.C. 3506; 5 CFR 1320 Appendix A.1), the Board has reviewed the final rule under the authority delegated to the Board by the Office of Management and Budget. The final rule contains no new collections of information and proposes no substantive changes to existing collections of information pursuant to the Paperwork Reduction Act.

List of Subjects in 12 CFR Part 206

Banks, Banking, Interbank liability, Lending limits, Savings associations.

Authority and Issuance

For the reasons set forth in the preamble, the Board is revising 12 CFR part 206 to read as follows:

PART 206—INTERBANK LIABILITIES (REGULATION F)

1. The authority citation for part 206 is revised to read as follows:

Authority: 12 U.S.C. 371b-2.

§ 206.1 [Amended]

2. In § 206.1(a), remove the phrase “to implement section 308 of the Federal Deposit Insurance Corporation Improvement Act of 1991 (Act), 12 U.S.C. 371b-2” in the first sentence and add the phrase “under authority of section 23 of the Federal Reserve Act (12 U.S.C. 371b-2)” in its place.

§ 206.2 [Amended]

3. In § 206.2(f), remove “(q)” each place it appears.

4. In § 206.2(g), remove the word “Basle” wherever it appears and add the word “Basel” in its place.

§ 206.3 [Amended]

5. In § 206.3(c)(1), remove the word “of” between the words “form” and “maturity” in the first sentence and add the word “or” in its place, and remove the word “of” between the words “amount” and “flexible” in the third sentence and add the word “or” in its place.

§ 206.4 [Amended]

6. In § 206.4(b), remove the word “of” between the words “principal” and “other” in the last sentence and add the word “or” in its place.

§ 206.5 [Amended]

7. In § 206.5(a), footnote 1, remove the phrase “subpart B” and add the phrase “subpart D” in its place.

8. In § 206.5(f), redesignate paragraphs (i), (ii), and (iii) as paragraphs (1), (2), and (3), respectively, and remove the word “Basle” wherever it appears and add the word “Basel” in its place.

§ 206.7 [Removed]

9. Remove § 206.7.

By order of the Board of Governors of the Federal Reserve System, September 3, 2003.

Jennifer J. Johnson,
Secretary of the Board.

[FR Doc. 03-22862 Filed 9-9-03; 8:45 am]

BILLING CODE 6210-01-S